DEPARTMENT OF DEFENSE

Department of the Air Force

Notice of Availability of a Draft Environmental Assessment for the Juniper Butte Land Withdrawal Extension, Mountain Home Air Force Base, Idaho

ACTION: Notice of Availability.

SUMMARY: The U.S. Air Force (Air Force) is issuing this notice of availability to advise the public of the availability of a Draft Environmental Assessment (EA) for the Juniper Butte Land Withdrawal Extension, Mountain Home Air Force Base, Idaho.

DATES: A public meeting will be held in Mountain Home, Idaho, from 5 p.m. to 7 p.m. on April 25, 2019 at the American Legion (VFW Post 26), 515 E 2nd South Street, Mountain Home, Idaho 83647.

ADDRESSES: For questions regarding the Proposed Action or EA development, contact Public Affairs at 366FW.PA.Public.Affairs@us.af.mil or 208-828-6800. Although comments can be submitted to the Air Force any time during the EA process, comments are requested within 60 days from the date of this publication to ensure full consideration in the process. Comments can be submitted by email to 366FW.PA.Public.Affairs@us.af.mil, mail to, 366 FW/PA, 366 Gunfighter Avenue, Suite 310, Mountain Home AFB 83648, or in person by attending the public meeting.

FOR FURTHER INFORMATION CONTACT: Robin Divine at 208-828-6800.

SUPPLEMENTARY INFORMATION: The Draft EA has been prepared to consider the potential environmental consequences of extending the public lands withdrawal established in October 1998 under the Juniper Butte Range Withdrawal Act of 1999, Public Law (Pub. L.) 105-261 at Mountain Home Range Complex associated with Mountain Home Air Force Base (AFB), Idaho. Under Public Law 105-261, approximately 11,816 acres of public land, located in Owyhee and Twin Falls counties, Idaho, from the Department of Interior, Bureau of Land Management was withdrawn to the Air Force for military use. Public Law 105-261 will expire in 2023; therefore, the Air Force is proposing to extend the withdrawal of this public land for continued military training for an additional 25 years. In addition, except as provided in subsection 2908(f) of Public Law 105-261, withdrawn and acquired mineral resources within the boundaries of the Juniper Butte Range will continue as originally withdrawn from the United States mining laws.

The extension would allow the Air Force to sustain its mission for enhanced readiness training as well as maintain critical existing assets that support the mission. A No Action Alternative is included in the Draft EA for evaluation. Under the No Action Alternative, the withdrawal of public lands would not be extended, and public lands would be relinquished to the Bureau of Land Management. The Air Force would retain the restricted airspace R-3204A, B, and C; however, training activities would exclude ordnance drops on the existing withdrawal. The analysis of the No Action Alternative provides a benchmark to enable Air Force decision-makers to compare the magnitude of the potential environmental effects of the Proposed Action.

The Air Force is soliciting comments from interested local, state, and federal elected officials and agencies, as well as interested members of the public. The Air Force is also pursuing government-to-government consultations with interested Native American tribes in accordance with requirements as articulated in the National Historic Preservation Act (NHPA).

The Draft EA is available on the internet at https://www.mountainhome.af.mil/Home/Environmental-News/. Copies of the Draft EA are available for review at the following locations:

• Mountain Home Public Library, 790 N 10th E Street, Mountain Home, Idaho 83647

• Mountain Home AFB Library, 480 5th Avenue, Building 2610, Mountain Home AFB, Idaho 83648

• Twin Falls Public Library, 201 4th Avenue E, Twin Falls, Idaho 83301

Carlinda N. Lotson,
Air Force Federal Register Liaison Officer.

[FR Doc. 2019-07117 Filed 4-9-19; 8:45 am]

BILLING CODE 5001-10-P